DEPARTMENT OF ENERGY

Federal Energy Regulatory Commission

[Docket Nos. RP00-472-004, RP01-31-004, and RP02-443-002]

USG Pipeline Company; Notice of Tariff Filing

February 4, 2003.

Take notice that on January 28, 2003, USG Pipeline Company (USGPC) tendered for filing as part of its FERC Gas Tariff, Original Volume No. 1, Substitute First Revised Sheet No. 57, Substitute Original Sheet No. 57A, and Substitute First Revised Sheet No. 58, with an October 1, 2002 effective date.

USGPC states that the sole purpose of the instant filing is to incorporate onto the correctly paginated sheets tariff language which was accepted by the Commission's order issued September 25, 2002 in Docket Nos. RP00-472-001 and RP01-31-001, and in an unpublished Letter Order issued September 30, 2002 in Docket No. RP02-443-000.

USGPC states that complete copies of this filing are being provided to its sole customer, United States Gypsum Company, which receives service as certificated under part 157 of the Commission's regulations, and to interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 10, 2003.

Magalie R. Salas,
Secretary.

[FR Doc. 03-3148 Filed 2-7-03; 8:45 am]

BILLING CODE 6717-01-P